DEPARTMENT OF COMMERCE

National Oceanic and Atmospheric Administration

RIN 0648-XA603

Endangered Species; File No. 15802

AGENCY: National Marine Fisheries Service (NMFS), National Oceanic and Atmospheric Administration (NOAA), Commerce.

ACTION: Notice; requested change to permit application.

SUMMARY: Notice is hereby given that Florida Fish and Wildlife Conservation Commission, 100 Eighth Avenue SE, St. Petersburg, FL 33701 [Gregg Poulakis, Responsible Party], has requested a change to the application for a permit (File No. 15802).

DATES: Written, telefaxed, or email comments must be received on or before January 13, 2012

ADDRESSES: The application and related documents are available for review by selecting “Records Open for Public Comment” from the Features box on the Applications and Permits for Protected Species (APPS) home page, https://apps.nmfs.noaa.gov, and then selecting File No. 15802 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

Written comments on this application should be submitted to the Chief, Permits and Conservation Division

• By email to NMFS.Pr1Comments@noaa.gov (include the File No. 15802 in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Jennifer Skidmore or Colette Cairns, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

On July 28, 2011 (76 FR 45230), notice was published that a permit had been requested by the applicant for scientific research and monitoring of smalltooth sawfish (Pristis pectinata) populations of Florida, primarily in the greater Charlotte Harbor estuarine system. The applicant is requesting to take up to 205 sawfish by gillnet, seine, or longline. These animals would be handled, measured, passive integrated transponder, roto, and external satellite tagged, tissue, blood, and biopsy sampled, examined by ultrasound, and released. Receipt of sawfish samples acquired through strandings, law enforcement confiscations, or other permitted researchers is also requested. The applicant also seeks authorization to capture green (Chelonia mydas), hawksbill (Eretmochelys imbricata), Kemp's ridley (Lepidochelys kempii), leatherback (Dermochelys coriacea), and loggerhead (Caretta caretta) sea turtles. Sea turtles would be measured, photographed, and released. The permit is requested for a duration of 5 years.

Dated: December 9, 2011.
P. Michael Payne,
Chief, Permits and Conservation Division, Office of Protected Resources, National Marine Fisheries Service.

[FR Doc. 2011-32089 Filed 12-13-11; 8:45 am]

BILLING CODE 3510-22-P